DEPARTMENT OF TRANSPORTATION

Federal Aviation Administration

14 CFR Part 39

[Docket No. 2001-NM-346-AD; Amendment 39-12853; AD 2002-16-14]

RIN 2120-AA64

Airworthiness Directives; Bombardier Model CL-600-2B19 Series Airplanes

AGENCY: Federal Aviation Administration, DOT.

ACTION: Final rule.

SUMMARY: This amendment adopts a new airworthiness directive (AD) that is applicable to certain Bombardier Model CL-600-2B19 series airplanes. This AD requires inspection of certain installed electrical relays to determine whether they have certain manufacturing date codes, and replacement of the electrical relays with those date codes with new relays with different manufacturing date codes. This action is necessary to prevent the failure of an electrical relay due to a defective moving blade assembly, which could result in the inability to generate electrical power from the emergency system, if needed. This action is intended to address the identified unsafe condition.

DATES: Effective September 18, 2002.

The incorporation by reference of certain publications listed in the regulations is approved by the Director of the Federal Register as of September 18, 2002.

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Luciano Castracane, Aerospace Engineer, Systems and Flight Test Branch, ANE-172, FAA, New York Aircraft Certification Office, 10 Fifth Street, Third Floor, Valley Stream, New York 11581; telephone (516) 256-7535; fax (516) 568-2716.

SUPPLEMENTARY INFORMATION: A proposal to amend part 39 of the Federal Aviation Regulations (14 CFR part 39) to include an airworthiness directive (AD) that is applicable to certain Bombardier Model CL-600-2B19 series airplanes was published in the Federal Register on April 4, 2002 (67 FR 16067). That action proposed to require inspection of certain installed electrical relays to determine whether they have certain manufacturing date codes, and replacement of the electrical relays with those date codes with new relays with different manufacturing date codes.

Comments

Interested persons have been afforded an opportunity to participate in the making of this amendment. No comments were submitted in response to the proposal or the FAA's determination of the cost to the public.

Explanation of Credit Language

Since the language in Notes 2, 3, and 4 of the proposed AD is regulatory in nature, the notes have been redesignated as paragraphs (b), (e), and (g) in this final rule. The remaining paragraphs of this final rule have been redesignated to accommodate these changes.

Conclusion

After careful review of the available data, the FAA has determined that air safety and the public interest require the adoption of the rule with the changes described previously. The FAA had determined that these changes will neither increase the economic burden on any operator nor increase the scope of the AD.

Cost Impact

The FAA estimates that 160 airplanes of U.S. registry will be affected by this AD. It will take approximately 1 work hour per airplane to accomplish the required inspection at an average labor rate of $60 per work hour. Based on these figures, the cost impact of the required inspection on U.S. operators is estimated to be $9,600, or $60 per airplane.

It will take approximately 2 work hours per airplane to accomplish the required replacement of suspect relay K1XC at an average labor rate of $60 per work hour. There will be no charge for the replacement part. Based on these figures, the cost impact of the required replacement of suspect relay K1XC on U.S. operators is estimated to be a maximum of $19,200, or $120 per airplane.

It will take approximately 2 work hours per airplane to accomplish the required replacement of suspect relays K2XD and K3XD at an average labor rate of $60 per work hour. There will be no charge for the replacement parts. Based on these figures, the cost impact of the required replacement of suspect relays K2XD or K3XD on U.S. operators is estimated to be a maximum of $19,200, or $120 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

>

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-16-14 Bombardier, Inc. (Formerly Canadair): Amendment 39-12853.

Docket 2001-NM-346-AD.

Applicability: Model CL-600-2B19 series airplanes, serial numbers 7003 through 7495 inclusive, 7497 through 7502 inclusive, and 7505 through 7507 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (i) of this AD. The request should include an assessment of the effect of the modification, alteration, or repair on the unsafe condition addressed by this AD; and, if the unsafe condition has not been eliminated, the request should include specific proposed actions to address it.

Compliance: Required as indicated, unless accomplished previously.

To prevent the failure of an electrical relay due to a defective moving blade assembly, which could result in the inability to generate electrical power from the emergency system, if needed, accomplish the following:

Inspection

(a) Within 14 days after the effective date of this AD: Perform an inspection to determine whether installed Leach ‘H’ series power transfer relays K1XC, K2XD, and K3XD, all having part number (P/N) H-A4A-039, have a manufacturing date code of 0011 through 0050. The inspection for such “suspect relays” is to be performed in accordance with Bombardier Alert Service Bulletin A601R-24-105, Revision ‘A’, dated July 20, 2001.

(b) Inspections accomplished prior to the effective date of this AD in accordance with Bombardier Alert Service Bulletin A601R-24-105, dated July 4, 2001, are considered acceptable for compliance with the applicable action specified in this amendment.

(c) As of the effective date of this AD: For airplanes determined to have suspect Leach ‘H’ series relays K1XC or K2XD installed, dispatch with an inoperative integrated-drive generator (IDG) or auxiliary power unit (APU) is prohibited until replacement of the relay with a new relay is accomplished in accordance with paragraphs (d) and (f) of this AD.

Replacement

(d) Within 500 flight hours after the effective date of this AD: Replace suspect relay K1XC with a new relay having a manufacturing date code other than 0011 through 0050, in accordance with Bombardier Alert Service Bulletin A601R-24-105, Revision ‘A’, dated July 20, 2001.

(e) Replacement of suspect relay K1XC accomplished prior to the effective date of this AD in accordance with Bombardier Alert Service Bulletin A601R-24-105, dated July 4, 2001, is considered acceptable for compliance with the applicable action specified in this amendment.

(f) Within 1,000 flight hours after the effective date of this AD: Replace suspect relays K2XD and K3XD with new relays having a manufacturing date code other than 0011 through 0050, in accordance with Bombardier Alert Service Bulletin A601R-24-105, Revision ‘A’, dated July 20, 2001.

(g) Replacement of suspect relays K2XD and K3XD accomplished prior to the effective date of this AD in accordance with Bombardier Alert Service Bulletin A601R-24-105, dated July 4, 2001, is considered acceptable for compliance with the applicable action specified in this amendment.

Spares

(h) As of the effective date of this AD, no person shall install a Leach ‘H’ series electrical relay having P/N H-A4A-039 that has a manufacturing date code of 0011 through 0050 on any airplane.

Alternative Methods of Compliance

(i) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 2: Information concerning the existence of approved alternative methods of compliance with this AD, if any, may be obtained from the New York ACO.

Special Flight Permits

(j) Special flight permits may be issued in accordance with sections 21.197 and 21.199 of the Federal Aviation Regulations (14 CFR 21.197 and 21.199) to operate the airplane to a location where the requirements of this AD can be accomplished.

Incorporation by Reference

(k) Unless otherwise specified in this AD, the actions shall be done in accordance with Bombardier Alert Service Bulletin A601R-24-105, Revision ‘A’, dated July 20, 2001. This incorporation by reference was approved by the Director of the Federal Register in accordance with 5 U.S.C. 552(a) and 1 CFR part 51. Copies may be obtained from Bombardier, Inc., Canadair, Aerospace Group, P.O. Box 6087, Station Centreville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 3: The subject of this AD is addressed in Canadian airworthiness directive CF-2001-27, dated July 24, 2001.

Effective Date

(l) This amendment becomes effective on September 18, 2002.

Issued in Renton, Washington, on August 5, 2002.
Vi Lipski,
Manager, Transport Airplane Directorate, Aircraft Certification Service.

[FR Doc. 02-20268 Filed 8-13-02; 8:45 am]

BILLING CODE 4910-13-P